DEPARTMENT OF THE TREASURY

Internal Revenue Service

26 CFR Part 301

[TD 7964]

Procedure and Administration; Tax Shelter Registration; Correction

AGENCY: Internal Revenue Service (IRS), Treasury.

ACTION: Correcting amendment.

SUMMARY: This document contains a correction to temporary regulations (TD 7964) that were published in the Federal Register on Wednesday, August 15, 1984 (49 FR 32712) relating to tax shelter registration. In addition, the text of the temporary regulations set forth in this document also serves as the text of the proposed regulations cross-referenced in the Notice of Proposed Rulemaking in the Proposed Rules section of this issue of the Federal Register. Changes to the applicable tax law were made by the Tax Reform Act of 1984. The regulations affect organizers, sellers, investors and certain other persons associated with investments that are considered tax shelters.

DATES: This correction is effective December 2, 2008, and is applicable after August 31, 1984.

FOR FURTHER INFORMATION CONTACT: Charles D. Wien, (202) 622-3070 (not a toll-free number).

SUPPLEMENTARY INFORMATION:

Background

The temporary regulations that are the subject of this document are under sections 6707 and 6111 of the Internal Revenue Code prior to The American Jobs Creation Act of 2004, Public Law 108-357 (118 Stat. 1418), which was enacted on October 22, 2004.

Need for Correction

As published, temporary regulations (TD 7964) contain an error that may prove to be misleading and is in need of clarification.

List of Subjects in 26 CFR Part 301

Employment taxes, Estate taxes, Excise taxes, Gift taxes, Income taxes, Penalties, Reporting and recordkeeping requirements.

Correction of Publication

Accordingly, 26 CFR part 301 is corrected by making the following correcting amendment:

PART 301—PROCEDURE AND ADMINISTRATION

Paragraph 1. The authority citation for part 301 continues to read, in part, as follows:

Authority: 26 U.S.C. 7805 * * *

Par. 2. Section 301.6111-1T A-30 is amended by revising the first sentence to read as follows:

§ 301.6111-1T Questions and answers relating to tax shelter registration.

* * * * *

A-30. No. The performance of an act described in A-27 through A-29 of this section will not constitute participation in the organization or management of a tax shelter unless the person performing the act is related to the tax shelter (or any principal organizer of the tax shelter) or the person participates in the entrepreneurial risks or benefits of the tax shelter. * * *

* * * * *

Guy Traynor,
Acting Chief, Publications and Regulations Branch, Legal Processing Division, Associate Chief Counsel, (Procedure and Administration).

[FR Doc. E8-28525 Filed 12-1-08; 8:45 am]

BILLING CODE 4830-01-P